DEPARTMENT OF ENERGY

Federal Energy Regulatory Commission

Notice of FERC Commissioner and FERC Staff Participation in National Association of Regulatory Utility Commissioners Resource Planning and Procurement Forum

April 29, 2005.

In the matter of: RM04-7-000; PL04-6-000; PL04-9-000; EC05-20-000; ER05-263-000; ER05-264-000; ER05-265-000; ER03-753-000; ER04-1248-002; ER05-640-000; RT01-2-015, RT01-2-016, and ER03-738-003; ER05-730-000; ER05-764-000; EL05-80-000; ER05-807-000; ER03-563-030 and EL04-102-000; EL05-52-000 and EL05-52-001; EL02-23-003 and EL02-23-006; EL03-236-001, EL03-236-002, EL03-236-003, EL03-236-004, EL03-236-005, and EL03-236-006; ER04-457-001, ER04-457-002, and EL05-60-000; ER05-572-000; EL05-84-000; EL05-48-000; EL05-48-001; ER04-1144-002 and ER04-1144-003; EC05-65-000; ER05-17-001; ER05-410-001; ER03-1272-003, ER03-1272-004, ER03-1272-005, ER03-1272-006, EL05-22-000, EL05-22-001, and EL05-22-002; Market Based Rates for Public Utilities; Solicitation Processes For Public Utilities; Acquisition and Disposition of Merchant Generation Assets by Public Utilities; PPL Sundance Energy, LLC, PPL EnergyPlus, LLC, and Arizona Public Service Company; Brownsville Power I, L.L.C.; Caledonia Power I, L.L.C.; Cinergy Capital and Trading, Inc.; Entergy Services, Inc.; Union Light, Heat and Power Company; Cinergy Services, Inc.; PJM Interconnection, LLC; ISO New England Inc.; Montana Alberta Tie Ltd.; Southern California Edison Company; Pacific Gas and Electric Company; Devon Power, LLC, et al.; Entergy Services, Inc.; Consolidated Edison Company of New York Inc.; PJM Interconnection, LLC; PJM Interconnection, LLC; Niagara Mohawk Power Corporation; New York Independent System Operator, Inc.; Neptune Regional Transmission System, LLC v. PJM Interconnection, LLC; New York Independent System Operator, Inc.; ITC Holdings Corp. and International Transmission Company; Trans-Elect NTD Path 15, LLC; Southern California Edison Company; Entergy Services, Inc.

The Federal Energy Regulatory Commission (FERC) hereby gives notice that FERC Commissioners and FERC staff may participate in the National Association of Regulatory Utility Commissioners (NARUC) Resource Planning and Procurement Forum noted below. The forum is expected to include discussion of issues relating to transmission infrastructure and to Commission and state coordination with respect to public utility power sales transactions and public utility dispositions of Commission-jurisdictional facilities. That discussion may address matters at issue in the above-captioned proceedings. The participation of FERC Commissioners and FERC staff is part of the Commission's ongoing outreach efforts.

NARUC Resource Planning and Procurement Forum—May 16, 2005, 9:30 a.m.-4:30 p.m. (c.s.t.); Hyatt Regency O'Hare, 9300 W. Bryn Mawr Avenue, Rosemont, IL 60018, 847-696-1234. The NARUC Resource Planning and Procurement Forum is open to the public.

For more information, contact Sarah McKinley, Office of External Affairs, Federal Energy Regulatory Commission at (202) 502-8368 or sarah.mckinley@ferc.gov.

Linda Mitry,
Deputy Secretary.

[FR Doc. E5-2190 Filed 5-4-05; 8:45 am]

BILLING CODE 6717-01-P